DEPARTMENT OF EDUCATION

[Docket No.: ED-2023-SCC-0216]

Agency Information Collection Activities; Comment Request; Process for FSA ID Account Creation for Individuals Without a Social Security Number in Connection With Person Authentication Service (PAS)

AGENCY: Federal Student Aid (FSA), Department of Education (ED).

ACTION: Notice.

SUMMARY: In accordance with the Paperwork Reduction Act of 1995, ED requested the Office of Management and Budget (OMB) to conduct an emergency review of a new information collection.

DATES: The Department requested emergency processing from OMB for this information collection request on December 20, 2023. As a result, the Department is providing the public with the opportunity to comment under the full comment period. Interested persons are invited to submit comments on or before February 26, 2024.

ADDRESSES: To access and review all the documents related to the information collection listed in this notice, please use http://www.regulations.gov by searching the Docket ID number ED-2023-SCC-0216. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave, SW, LBJ, Room 6W203, Washington, DC 20202-8240.

FOR FURTHER INFORMATION CONTACT: For specific questions related to collection activities, please contact Beth Grebeldinger, 202-377-4018.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Process for FSA ID Account Creation for Individuals without a Social Security Number in Connection with Person Authentication Service (PAS).

OMB Control Number: 1845-0179.

Type of Review: A new information collection request.

Respondents/Affected Public: Individuals and Households.

Total Estimated Number of Annual Responses: 3,500.

Total Estimated Number of Annual Burden Hours: 1,155.

Abstract: The Department of Education (Department) requested emergency processing for this information collection, 1845-0179, Process for FSA ID Account Creation for Individuals without a Social Security Number in Connection with Person Authentication Service (PAS); and therefore, is requesting the 60-day public comment period for the full ICR. Applicants, parents, and borrowers establish an FSA ID, which includes a username and password. The FSA ID is used for the purposes of verifying the identity of the user; allowing users to establish an account with FSA; safeguarding their personally identifiable and financial information; signing applications and loan related documents; providing users access to their information and applications; allowing users to customize or update their accounts with FSA; renewing or revoking a user's account with FSA; and supporting the Federal Student Aid Information Center (FSAIC) help desk functions.

The specific questions that applicants are asked to answer in the FSA ID creation process are described separately in the Creating FSA-ID document, which explains the use of the questions in the application. As part of the standard process, users' information is matched with information from the Social Security Administration (SSA) to confirm their SSA status.

In the event of individuals who do not have a SSN to match, they are instructed to the contact the Department and provide one of the following documents (U.S. State/Territory Driver's License; U.S. State or City Identification Card; Foreign Passport; Municipal identification card; Community ID; or a Consular identification card) and a signed attestation of their identity under the penalty of perjury, as instructed by the Privacy Act.

This collection provides the process and application that individuals without an SSN may use to acquire an FSA ID to access the statutory and regulatory benefits of the Title IV, HEA student financial assistance programs. The Department received emergency clearance on December 20, 2023, since normal clearance processing would not enable to implement this critical change by the launch of the 2024-25 FAFSA form, which would result in no access to the FAFSA application for individuals who need to get an FSA ID without a Social Security Number. Any delay in getting access to the FAFSA form would increase the potential for public harm through delayed access to student financial aid and the possibility of decreasing the likelihood of postsecondary enrollment. As a result, in order to meet the late-December 2023 form launch, the Department requested that OMB approve the collection associated with non-Social Security Number FSA ID account creation process using the emergency clearance procedures.

Dated: December 20, 2023.
Kun Mullan,
PRA Coordinator, Strategic Collections and Clearance Governance and Strategy Division, Office of Chief Data Officer, Office of Planning, Evaluation and Policy Development.

[FR Doc. 2023-28427 Filed 12-22-23; 8:45 am]

BILLING CODE 4000-01-P